DEPARTMENT OF EDUCATION

Reauthorization of the Higher Education Act; Public Hearing

AGENCY: Office of Postsecondary Education, Department of Education.

ACTION: Notice of open meeting.

SUMMARY: This notice includes the schedule and proposed agenda of the upcoming public hearing regarding proposals for the reauthorization of the Higher Education Act (HEA). The Office of Postsecondary Education (OPE) invites comments from the public regarding proposals for amending and extending the HEA. The meeting will take place in Kansas City, Missouri during the annual Federal Student Aid Spring Update meeting.

Assistance to Individuals with Disabilities at the Public Meeting

The meeting site is accessible to individuals with disabilities. If you will need an auxiliary aid or service to participate in the meeting (e.g., interpreting service, assistive listening device, or materials in an alternate format), notify the contact person listed under FOR FURTHER INFORMATION CONTACT no later than Wednesday, February 26, 2003. Although we will attempt to meet a request we receive after that date, we may not be able to make available the requested auxiliary aid or service because of insufficient time to arrange it.

DATES: Friday, March 7, 2003.

Location: Westin Crown Center, Century Ballroom, One Pershing Road, Kansas City, MO, 64108.

Times: 10 a.m.-4:30 p.m.

Meeting Format: This meeting will be held according to the following schedule:

1. Time: 10 a.m.-12:30 p.m.

2. Time: 1:30 p.m.-4:30 p.m.

Attendees: If you would like to attend the meeting listed above, we ask that you register with the Office of Postsecondary Education by e-mail or fax to the address listed under ADDRESSES. Please provide us with your name and contact information.

Participants: The hearing will begin with panels of invited speakers. After the presentations by the invited speakers, there will be time for comments from the public.

If you are interested in participating in the public comment period, we request that you reserve time on the agenda of the hearing by contacting the Office of Postsecondary Education by e-mail or fax. Please include your name, the organization you represent if appropriate, and a brief description of the issue you would like to present. Participants will be allowed approximately three to five minutes to present their comments, depending on the number of individuals who reserve time on the agenda. At the hearing, participants are also encouraged to submit two written copies of their comments. Persons interested in making comments are encouraged to address the issues and questions discussed under SUPPLEMENTARY INFORMATION.

Given the expected number of individuals interested in providing comments at the hearing, reservations for presenting comments should be made as soon as possible. However, please submit your reservation to comment at the hearing no later than February 28, 2003. Requests to speak during the public comment period of the hearing will be granted on a first-come, first-served basis.

Persons who are unable to obtain reservations to speak during the meeting are encouraged to submit written comments. Written comments will be accepted at the meeting site or may be mailed to the Office of Postsecondary Education at the address listed under ADDRESSES.

ADDRESSES: Submit all requests to reserve time on the agenda or to submit written comments to OPE using one of the following methods:

1. E-mail. We encourage you to submit your request to reserve time on the agenda or written comments through the Internet to the following address: HEA.2004@ed.gov.

2. Facsimile. You may submit your request to reserve time on the agenda by facsimile at (202) 502-7875.

3. Mail. You may submit your written comments to Jeffrey R. Andrade, Deputy Assistant Secretary for Policy, Planning, and Innovation, Office of Postsecondary Education, 1990 K Street, NW., Room 8046, Washington, DC 20006 ATTENTION: HEA Reauthorization. Due to delays in mail delivery caused by heightened security, please allow adequate time for the mail to be received.

FOR FURTHER INFORMATION CONTACT: To obtain additional information about the hearing, please contact Amy Raaf at (202) 502-7561 or Dan Iannicola, Jr. at (202) 502-7719 or via Internet: amy.raaf@ed.gov, dan.iannicola@ed.gov.

To obtain additional information about hotel reservations and the agenda for the Federal Student Aid Spring Update meeting, visit Federal Student Aid's Web site at: http://edeworkshop.ncspearson.com/KansasCity.htm.

SUPPLEMENTARY INFORMATION: As the 108th Congress begins to hold hearings on reauthorization of the Higher Education Act and the Administration begins to work on its proposals for amending the HEA, we are interested in hearing from the higher education community and other members of the public about ways to ensure that the significant amounts of funding for the programs authorized in the HEA are wisely spent. We are also looking to build upon successful program results in providing access to students, maintaining high levels of student retention in higher education programs and improving the quality of postsecondary education.

Many of the programs authorized under the HEA work well and provide a strong foundation of support for higher education. Some need to be made more effective in achieving better results. As part of reauthorization, we are interested in hearing how to make the HEA programs work better and complement the President's efforts to ensure that all Federal programs focus on stronger accountability for results. The goal of this hearing is to receive proposals for solutions to the numerous challenges that are currently facing postsecondary education. Therefore, comments are encouraged in the following priority areas:

a. How can we improve access and promote additional educational opportunity for all students, especially students with disabilities, within the framework of the HEA? How can the Federal Government through the HEA encourage postsecondary students to make consistent progress in the completion of their programs of study and to obtain their certificates or degrees?

b. How can existing HEA programs be changed and made to work more efficiently and effectively? In what ways do they need to be adapted or modified to respond to changes in postsecondary education that have occurred since 1998?

c. How can HEA programs be changed to eliminate any unnecessary burdens on students, institutions, or the Federal Government, yet maintain accountability of Federal funds? How can program requirements be simplified, particularly for students?

d. How can we best prioritize the use of funds provided for postsecondary education and the benefits provided under the HEA programs? How can the significant levels of Federal funding already provided for the HEA programs best help to further the goals of improving educational quality, expanding access, and ensuring affordability?

e. Are there innovative and creative ways the Federal Government can integrate tax credits, deductions, and tax-free savings incentives with the Federal student aid programs in the HEA to improve access to and choice in postsecondary education?

f. What results should be measured in each HEA program to determine the effectiveness of that program?

g. Are there other ideas or initiatives that should be considered during reauthorization that would improve the framework in which the Federal Government promotes access to postsecondary education and ensures accountability of taxpayer funds?

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6468; or in the Washington, DC, area at (202) 512-1530.

Note: The official version of the document is published in the Federal Register. Free Internet access to the official edition of the Federal Register and the Code of Federal Regulations is available on GPO Access at: http://www.access.gpo.gov/nara/index.html.

Dated: February 6, 2003.
Sally L. Stroup,
Assistant Secretary for Postsecondary Education.

[FR Doc. 03-3397 Filed 2-10-03; 8:45 am]

BILLING CODE 4000-01-P